DEPARTMENT OF TRANSPORTATION

Federal Aviation Administration

14 CFR Part 71

[Docket No. FAA-2022-0906; Airspace Docket No. 21-ASO-27]

RIN 2120-AA66

Amendment and Establishment of Area Navigation (RNAV) Routes; Eastern United States

AGENCY: Federal Aviation Administration (FAA), DOT.

ACTION: Final rule; correction.

SUMMARY: This action corrects a final rule published by the FAA in the Federal Register on December 12, 2022 that amends three area navigation (RNAV) routes (T-routes), and establishes five T-routes. In the final rule, the HITMN, TN, waypoint (WP), the TMPSN, TN, WP, and the TROPP, SC, WP were misspelled, and the PENCE, TN, point was misidentified as a WP instead of a Fix. The action makes editorial corrections to the above points to match the FAA National Airspace System Resource (NASR) database information.

DATES: Effective date 0901 UTC, February 23, 2023. The Director of the Federal Register approves this incorporation by reference action under 1 CFR part 51, subject to the annual revision of FAA Order JO 7400.11 and publication of conforming amendments.

ADDRESSES: FAA Order JO 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

History

The FAA published a final rule in the Federal Register (87 FR 75925; December 12, 2022) amending three RNAV T-routes and establishing five T-routes. Subsequent to publication, the FAA determined that the HITMN, TN, WP was misspelled in the discussion of route T-439. In addition, the TMPSN, TN, WP was misspelled, and the PENCE, TN point was misidentified as a WP instead of a Fix in the regulatory text description of T-424. Also, the TROPP, SC, WP was misspelled in the regulatory text description of T-441. Similarly, the PENCE, TN point in the regulatory text of route T-441 was misidentified as a WP instead of a Fix. This rule corrects the above errors.

These are editorial changes only to match the information in the FAA NASR database and do not alter the alignment of the affected T-routes.

United States RNAV T-routes are published in paragraph 6011 of FAA Order JO 7400.11G, dated August 19, 2022, and effective September 15, 2022, which is incorporated by reference in 14 CFR 71.1. The RNAV routes listed in this document will be subsequently published in FAA Order JO 7400.11.

Correction to Final Rule

The references to RNAV routes T-439, T-424, and T-441 published in the Federal Register of December 12, 2022 (87 FR 75925), FR Doc. 2022-26735, are corrected as follows:

1. On page 75926, in column 2, under the heading “The Rule” in the text for “T-439,” revise “T-439 is a new route that extends from the PIGON, AL, Fix, to the HITMAN, TN, WP.” to read “T-439 is a new route that extends from the PIGON, AL, Fix, to the HITMN, TN, WP.” to match FAA NASR database information.

2. On page 75927, correct the table for T-424 SMRRF, TN to DBRAH, VA [New] to read:

T-424 SMRRF, TN to DBRAH, VA [New]
SMRRF, TN | WP | (Lat. 35°33′43.23″ N, long. 086°26′20.24″ W)
TMPSN, TN | WP | (Lat. 35°46′51.54″ N, long. 084°58′43.15″ W)
EDDDY, TN | WP | (Lat. 35°54′17.33″ N, long. 083°53′41.72″ W)
CRECY, TN | WP | (Lat. 35°58′52.61″ N, long. 083°38′24.36″ W)
PENCE, TN | FIX | (Lat. 36°01′09.80″ N, long. 083°31′26.31″ W)
HORAL, TN | WP | (Lat. 36°26′13.99″ N, long. 082°07′46.48″ W)
DANCO, VA | WP | (Lat. 37°05′15.75″ N, long. 080°42′46.45″ W)
DBRAH, VA | WP | (Lat. 37°20′34.14″ N, long. 080°04′10.75″ W)

3. On page 75928 correct the table for T-441 TROPP, SC to PENCE, TN [New] to read:

T-441 TROPP, SC to PENCE, TN [New]
TROPP, SC | WP | (Lat. 32°53′40.00″ N., long. 080°02′16.59″ W)
CAYCE, SC | WP | (Lat. 33°51′26.13″ N., long. 081°03′14.76″ W)
BURGG, SC | WP | (Lat. 35°02′00.55″ N., long. 081°55′36.86″ W)
STYLZ, NC | WP | (Lat. 35°24′22.83″ N., long. 082°16′07.01″ W)
MUMMI, NC | FIX | (Lat. 35°39′48.60″ N., long. 082°47′30.15″ W)
PUPDG, NC | WP | (Lat. 35°46′30.08″ N., long. 083°03′40.16″ W)
PENCE, TN | FIX | (Lat. 36°01′09.80″ N., long. 083°31′26.31″ W)

* * * * *

Issued in Washington, DC, on December 23, 2022.
Scott M. Rosenbloom,
Manager, Airspace Rules and Regulations.

[FR Doc. 2022-28361 Filed 12-28-22; 8:45 am]

BILLING CODE 4910-13-P